ELECTION ASSISTANCE COMMISSION

Sunshine Act Meetings

AGENCY: Election Assistance Commission.

ACTION: Sunshine Act notice; notice of public meeting agenda.

SUMMARY: Public Meeting: U.S. Election Assistance Commission 2024 Local Leadership Council Meeting.

DATES: Tuesday, August 27, 2024, 1:00 p.m.-2:30 p.m. ET.

ADDRESSES: Virtual via Zoom.

The meeting is open to the public and will be livestreamed on the U.S. Election Assistance Commission YouTube Channel: https://www.youtube.com/channel/UCpN6i0g2rlF4ITWhwvBwwZw.

FOR FURTHER INFORMATION CONTACT: Kristen Muthig, Telephone: (202) 897-9285, Email: kmuthig@eac.gov.

SUPPLEMENTARY INFORMATION:

Purpose: In accordance with the Government in the Sunshine Act (Sunshine Act), Public Law 94-409, as amended (5 U.S.C. 552b), the U.S. Election Assistance Commission (EAC) will conduct a virtual meeting of the EAC Local Leadership Council.

Agenda: The U.S. Election Assistance Commission (EAC) Local Leadership Council will hold a meeting to provide agency updates and gather feedback from members on preparations for the election and what is needed leading up to November 5 and afterward. Throughout the meeting, there will be opportunities for members to ask questions.

Background: The Local Leadership Council was established in June 2021 under agency authority pursuant to and in accordance with the provisions of the Federal Advisory Committee Act, as amended (5 U.S.C. App. 2). The Advisory Committee is governed by the Federal Advisory Committee Act, which sets forth standards for the formation and use of advisory committees. The Advisory Committee shall advise the EAC on how best to fulfill the EAC's statutory duties set forth in 52 U.S.C. 20922 as well as such other matters as the EAC determines.

The EAC will only accept written comments and questions from members of the public. If you would like to participate, please email clearinghouse@eac.gov with your full name and question or comment no later than 12:00 p.m. E.T. on August 27, 2024.

The full agenda will be posted in advance on the EAC website: https://www.eac.gov.

STATUS: This meeting will be open to the public.

Camden Kelliher,
Acting General Counsel, U.S. Election Assistance Commission.

[FR Doc. 2024-17430 Filed 8-2-24; 4:15 pm]

BILLING CODE 4810-71-P